DEPARTMENT OF ENERGY

Western Area Power Administration

Pacific Alternating Current Intertie Point-to-Point Transmission Service—Rate Order No. WAPA-211

AGENCY: Western Area Power Administration, Department of Energy.

ACTION: Notice of rate order concerning transmission service formula rates.

SUMMARY: The formula rates for the Sierra Nevada (SN) region Pacific Alternating Current Intertie (PACI) point-to-point transmission service have been confirmed, approved, and placed into effect on an interim basis (Provisional Formula Rates). These new formula rates supersede rates for short-term sales on the PACI, PACI-T4 REV, PACI-T5 REV and PACI DLAP-T6 (approved under Delegation Order No. S3-DEL-WAPA1-2023, Section 1.4.B). There are no changes from the existing formula rates for these services, and there are no material changes aside from updating the effective dates.

DATES: The Provisional Formula Rates under Rate Schedules PACI-C1, PACI-D1 and PACI-W1 are effective on the first day of the first full billing period beginning on or after April 1, 2026, and will remain in effect through March 31, 2031, pending confirmation and approval by the Federal Energy Regulatory Commission (FERC) on a final basis or until superseded.

FOR FURTHER INFORMATION CONTACT: Michelle R. Williams, Regional Manager, Sierra Nevada Region, Western Area Power Administration, 114 Parkshore Drive, Folsom, CA 95630 or Autumn Wolfe, Rates Manager, Sierra Nevada Region, Western Area Power Administration, (916) 353-4686, or email: SNR-RateCase@wapa.gov.

SUPPLEMENTARY INFORMATION: Western Area Power Administration (WAPA) SN published a Federal Register notice (Proposed FRN) on April 23, 2025 (90 FR 17065), proposing new long-term formula rates for PACI point-to-point transmission service. The Proposed FRN initiated a 90-day public consultation and comment period and set forth the date and location of the public information and public comment forums. The rates continue the formula-based methodology that includes an annual update to the data in the rate formulas.

Legal Authority

By Delegation Order No. S1-DEL-RATES-2016, effective November 19, 2016, the Secretary of Energy delegated: (1) the authority to develop power and transmission rates to the WAPA Administrator; (2) the authority to confirm, approve, and place such rates into effect on an interim basis to the Deputy Secretary of Energy; and (3) the authority to confirm, approve, and place into effect on a final basis, or to remand or disapprove such rates, to FERC. By Delegation Order No. S1-DEL-S3-2024, effective August 30, 2024, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator. This rate action is issued under Redelegation Order No. S3-DEL-WAPA1-2023 and Department of Energy procedures for public participation in rate adjustments set forth in 10 CFR part 903.¹

¹ 50 FR 37835 (Sept. 18, 1985) and 84 FR 5347 (Feb. 21, 2019).

Following review of WAPA-SN's proposal, Rate Order No. WAPA-211, which provides the formula rates for PACI point-to-point transmission service, is hereby confirmed, approved, and placed into effect on an interim basis. WAPA-SN will submit Rate Order No. WAPA-211 to FERC for confirmation and approval on a final basis.

DEPARTMENT OF ENERGY

Administrator, Western Area Power Administration

In the Matter of: Western Area Power Administration, Sierra Nevada Region, Rate Adjustment for the Pacific Alternating Current Intertie, Transmission Service Formula Rates, Rate Order No. WAPA-211

Order Confirming, Approving, and Placing the Formula Rates for the Pacific Alternating Current Intertie Into Effect on an Interim Basis

The formula rates in Rate Order No. WAPA-211 are established following section 302 of the Department of Energy (DOE) Organization Act (42 U.S.C. 7152).²

² This Act transferred to, and vested in, the Secretary of Energy the power marketing functions of the Secretary of the Department of the Interior and the Bureau of Reclamation (Reclamation) under the Reclamation Act of 1902 (ch. 1093, 32 Stat. 388), as amended and supplemented by subsequent laws, particularly section 9(c) of the Reclamation Project Act of 1939 (43 U.S.C. 485h(c)); and other acts that specifically apply to the project involved.

By Delegation Order No. S1-DEL-RATES-2016, effective November 19, 2016, the Secretary of Energy delegated: (1) the authority to develop power and transmission rates to the Western Area Power Administration (WAPA) Administrator; (2) the authority to confirm, approve, and place such rates into effect on an interim basis to the Deputy Secretary of Energy; and (3) the authority to confirm, approve, and place into effect on a final basis, or to remand or disapprove such rates, to the Federal Energy Regulatory Commission (FERC). By Delegation Order No. S1-DEL-S3-2024, effective August 30, 2024, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator. This rate action is issued under Redelegation Order No. S3-DEL-WAPA1-2023 and DOE procedures for public participation in rate adjustments set forth at 10 CFR part 903.³

³ 50 FR 37835 (Sept. 18, 1985) and 84 FR 5347 (Feb. 21, 2019).

Acronyms, Terms, and Definitions

As used in this Rate Order, the following acronyms, terms, and definitions apply:

Balancing Authority Area (BAA): As defined in WAPA's Tariff, is Balancing Authority Area; the term Balancing Authority Area shall have the same meaning as “Control Area.”

Balancing Authority of Northern California (BANC): As defined in WAPA's Tariff, is Balancing Authority of Northern California (BANC). A joint powers authority that provides BA and other services to its members and other entities within the BAA. Members/entities of BANC may in turn provide transmission service to customers.

California Independent System Operator (CAISO): As defined in WAPA's Tariff, is the California Independent System Operator Corporation. A state-chartered, California, non-profit public benefit corporation that operates the transmission facilities of all CAISO participating transmission owners and dispatches certain generating units and loads. CAISO is the Market Operator for the Energy Imbalance Market.

Capacity: As defined in WAPA's 2025 Power Marketing Plan, is the electric capability of a generator, transformer, transmission circuit, or other equipment.

Customer: An entity with a contract that is receiving service from WAPA.

Customer Rate Brochure: A document prepared for public distribution explaining the rationale and background for the information contained in the Proposed Federal Register Notice (FRN) and in this rate order.

Central Valley Project (CVP): As defined in WAPA's 2025 Power Marketing Plan, is Central Valley Project. The multipurpose Federal water development project extending from the Cascade Range in northern California to the plains along the Kern River south of the city of Bakersfield, California.

Department of Energy (DOE): United States Department of Energy.

DOE Order RA 6120.2: Department of Energy Order outlining power marketing administration financial reporting and rate-making procedures.

Energy: As defined in WAPA's 2025 Power Marketing Plan, is measured in terms of the work it is capable of doing over a period of time; electric energy is usually measured in kilowatt-hours or megawatt-hours.

Federal Energy Regulatory Commission (FERC): Federal Energy Regulatory Commission.

Federal Register Notice (FRN): Federal Register Notice—a document published in the Federal Register in order for WAPA to provide information of public interest.

Fiscal Year (FY): WAPA's Fiscal Year; October 1 to September 30.

Generating Unit: As defined in CAISO's Tariff, is an individual electric generator and its associated plant and apparatus whose electrical output is capable of being separately identified and metered or a Physical Scheduling Plant that, in either case, is: located within the CAISO BAA (which includes a Pseudo-Tie of a generating unit to the CAISO BAA) or, for purposes of scheduling and operating the Real-Time Market only, an EIM Entity BAA; connected to the CAISO Controlled Grid, either directly or via interconnected transmission, or distribution facilities or via a Pseudo-Tie; and capable of producing and delivering net Energy (Energy in excess of a generating station's internal power requirements).

Kilowatt (kW): As defined in WAPA's 2025 Power Marketing Plan, it is kilowatt. A unit measuring the rate of production of electricity; one kilowatt equals one thousand watts.

Load Aggregation Point (LAP): Load Aggregation Point is a set of Pricing Nodes as specified in Section 27.2 of the CAISO Tariff that are used for the submission of Bids and Settlement of Demand.

Megawatt (MW): As defined in WAPA's 2025 Power Marketing Plan, is a unit measuring the rate of production of electricity; one megawatt equals one million watts.

National Environmental Policy Act (NEPA): National Environmental Policy Act of 1969, as amended.

New Rate: As defined in WAPA's Tariff, means the modification of a Rate for transmission or ancillary services provided by the Transmission Provider which has been promulgated pursuant to the rate development process outlined in Power and Transmission Rates, 10 CFR part 903 (2006).

Non-Statutory Service: Non-Federal Power.

Open Access Same-Time Information System (OASIS): Open Access Same-Time Information System—as defined in WAPA's Tariff, the information system and standards of conduct contained in Part 37 of the Commission's regulations and all additional requirements implemented by subsequent Commission orders dealing with OASIS.

Operation and Maintenance (O&M): Operation, Maintenance, and Replacements expense refers to the annual expense incurred for attending/servicing/replacement of power and transmission lines and facilities.

Preference: As defined in WAPA's 2025 Power Marketing Plan, is the requirements of Reclamation Law that provide for preference in the sale of Federal power be given to certain entities, such as governments (state, Federal and Native American), municipalities and other public corporations or agencies, and cooperatives and other nonprofit organizations financed in whole or in part by loans made pursuant to the Rural Electrification Act of 1936 (See, e.g., Reclamation Project Act of 1939, Section 9(c), 43 U.S.C. 485h(c)).

Point-To-Point Transmission Service: As defined in WAPA's Tariff, is the reservation and transmission of capacity and energy on either a firm or non-firm basis from the Point(s) of Receipt to the Point(s) of Delivery under Part II of WAPA's Tariff.

Project Use: As defined in WAPA's 2025 Power Marketing Plan, is power as defined by Reclamation Law and/or used to operate CVP and Washoe Project facilities.

Power: As defined in WAPA's 2025 Power Marketing Plan, is capacity and energy.

Provisional Formula Rates: The formula rates confirmed, approved, and placed into effect on an interim basis by the Deputy Secretary of Energy or his designee.

Rate: As defined in WAPA's Tariff, means the monetary charge or the formula for computing such a charge for any electric service provided by a Transmission Provider as defined in 10 CFR part 903.

Rate Adjustment: As defined in WAPA's Tariff, means a change in an existing rate or rates, or the establishment of a rate or rates for a new service. It does not include a change in rate schedule provisions or in contract terms, other than changes in the price per unit of service, nor does it include changes in the monetary charge pursuant to a formula stated in a rate schedule or a contract as defined in 10 CFR part 903.

Rate Formula Adjustment: As defined in WAPA's Tariff, means a change in an existing rate formula, or the establishment of a rate formula for a new service. It does not include updates to the monetary charge pursuant to a formula stated in a rate schedule or a contract.

Statutory Service: Firm Electric Service, Priority Use Power, and Project Use Service.

Tariff: The Open Access Transmission Tariff or `Tariff', including all schedules or attachments thereto, of the Transmission Provider as amended from time to time, and approved by FERC.

Transmission Owner (TO): As defined in WAPA's Tariff, means Transmission Owner and is the entity that owns, leases or otherwise possesses an interest in the portion of the Transmission System at the Point of Interconnection and may be a Party to the Small Generator Interconnection Agreement to the extent necessary.

Transmission Customer: As defined in WAPA's Tariff, is any Eligible Customer (or its Designated Agent) that (i) executes a Service Agreement, or (ii) requests in writing that the Transmission Provider provide transmission service without a Service Agreement, pursuant to section 15.3 of the WAPA Tariff. This term is used in the Part I Common Service Provisions to include customers receiving transmission service under Part II and Part III of the WAPA Tariff.

Transmission Provider: As defined in WAPA's Tariff, is the Regional Office of WAPA that owns, controls, or operates the facilities used for the transmission of electric energy in interstate commerce and provides transmission service under the WAPA Tariff.

Transmission System: As defined in WAPA's Tariff, is the facilities owned, controlled, or operated by the Transmission Provider that are used to provide transmission service under Part II and Part III of the WAPA Tariff.

Western Area Power Administration (WAPA): United States Department of Energy, Western Area Power Administration.

Western Area Power Administration, Sierra Nevada Region (WAPA-SN): United States Department of Energy, Western Area Power Administration, Sierra Nevada Region

Effective Date

The Provisional Formula Rate Schedules PACI-C1, PACI-D1, and PACI-W1 will take effect on the first day of the first full billing period beginning on or after April 1, 2026, and will remain in effect through March 31, 2031, pending approval by FERC on a final basis or until superseded.

Public Notice and Comment

WAPA-SN followed the Procedures for Public Participation in Power and Transmission Rate Adjustments and Extensions, 10 CFR part 903, in developing these formula rates. WAPA-SN took the following steps to involve interested parties in the rate process:

1. On April 23, 2025, a Federal Register notice (90 FR 17065) (Proposed FRN) announced the proposed formula rates and initiated a 90-day public consultation and comment period.

2. On April 23, 2025, WAPA-SN notified Preference Customers and interested parties of the proposed rates and provided a copy of the published Proposed FRN.

3. On June 18, 2025, WAPA-SN held a virtual public information forum. WAPA-SN's representatives explained the proposed formula rates, answered questions, and gave notice that more information was available in the Customer Rate Brochure.

4. On June 18, 2025, WAPA-SN held a virtual public comment forum to provide an opportunity for Customers and other interested parties to comment for the record.

5. WAPA-SN established a public website to post information about the rate process. The website is located at www.wapa.gov/about-wapa/regions/sn/sn-rates/Rate-Case-2025-WAPA-211.

6. During the 90-day consultation and comment period, which ended on July 22, 2025, WAPA-SN received no oral comment submissions and no written comment letters.

PACI Point-to-Point Transmission Service Formula Rates

The provisional cost-based formula rate for PACI point-to-point transmission service will provide sufficient revenue to recover annual operation, maintenance, replacement expenses, interest expense, and capital repayment requirements while ensuring repayment of the project within the cost recovery criteria. The provisional equitable formula rates for PACI point-to-point transmission service will aid and benefit the Central Valley Project (CVP) by offsetting project power costs.

PACI Point-to-Point Transmission Service Cost-Based Rate

The provisional cost-based rate for PACI point-to-point transmission service is used to move Federal power on the PACI transmission line for Statutory Service.

WAPA-SN prepares a detailed cost-of-service study to determine the costs, by project, that supports the transfer capability of each transmission system and the cost that supports the generation capability of the CVP system. Generally, the costs allocated through the cost-of-service study for the transmission systems include operation and maintenance, interest, and depreciation expenses. WAPA-SN's costs for scheduling, system control, and dispatch service associated with PACI point-to-point transmission service are included and recovered through the transmission systems' revenue requirement.

PACI Point-to-Point Transmission Service Equitable Rate

The provisional equitable formula rate for surplus PACI point-to-point transmission service is used for non-Statutory Service that is delivered and/or received between Malin to Round Mountain and/or Malin to Cottonwood Substation located within the Balancing Authority of Northern California balancing authority area (BAA).

PACI Transmission Service Equitable Default Load Aggregation Point Rate

The provisional equitable formula rate for surplus PACI Default Load Aggregation Point (DLAP) point-to-point transmission service is used for non-Statutory Service that is delivered from and/or received at Pacific Gas and Electric Company's DLAP located within the California Independent System Operator BAA.

Comments

WAPA-SN received no separate oral and/or written comments during the public consultation and comment period.

Certification of Rates

I have certified that the Provisional Formula Rates for PACI point-to-point transmission service under Rate Schedules PACI-C1, PACI-D1 and PACI-W1 are the lowest possible rates, consistent with sound business principles. The Provisional Formula Rates were developed following administrative policies and applicable laws.

Availability of Information

Information used by WAPA-SN to develop the Provisional Formula Rates is available for inspection and copying at the Sierra Nevada Regional Office, 114 Parkshore Drive, Folsom, CA. Many of these documents are also available on WAPA-SN's website at: www.wapa.gov/about-wapa/regions/sn/sn-rates/Rate-Case-2025-WAPA-211.

Ratemaking Procedure Requirements

Environmental Compliance

WAPA-SN determined that this action fits within the following categorical exclusion listed in appendix B to 10 CFR part 1021 and Appendix B of DOE's NEPA implementing procedures published on June 30, 2025: B4.3, Electric power marketing rate changes.⁴ Under 10 CFR 1021.102, categorically excluded projects and activities do not require preparation of either an environmental impact statement or an environmental assessment. A copy of the categorical exclusion determination is available on WAPA-SN's website at www.wapa.gov/about-wapa/regions/sn/sn-rates/Rate-Case-2025-WAPA-211.

⁴ The determination was done in compliance with NEPA (42 U.S.C. 4321-4347) and DOE NEPA Implementing Procedures, including 10 CFR part 1021.

Determination Under Executive Order 12866

WAPA has an exemption from centralized regulatory review under Executive Order 12866; accordingly, no clearance of this notice by the Office of Management and Budget is required.

Submission to the Federal Energy Regulatory Commission

The Provisional Formula Rates herein confirmed, approved, and placed into effect on an interim basis, together with supporting documents, will be submitted to FERC for confirmation and final approval.

Order

In view of the above and under the authority delegated to me, I hereby confirm, approve, and place into effect, on an interim basis, Rate Order No. WAPA-211. The rates will remain in effect on an interim basis until: (1) FERC confirms and approves them on a final basis; (2) subsequent rates are confirmed and approved; or (3) such rates are superseded.

Signing Authority

This document of the Department of Energy was signed on January 21, 2026, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 21, 2026.
Jennifer Hartzell,
Alternate Federal Register Liaison Officer, U.S. Department of Energy.

Rate Schedule PACI-C1

(Supersedes Schedule PACI-T4 REV)

United States Department of Energy

Western Area Power Administration

Sierra Nevada Region

Pacific Alternating Current Intertie

Point-to-Point Transmission Service

Approved Under Rate Order No. WAPA-211

Effective

April 1, 2026, through March 31, 2031, or until superseded, whichever occurs earlier.

Available

In the area served by the Western Area Power Administration (WAPA), Sierra Nevada Customer Service Region (SN).

Applicable

To customers receiving Pacific Alternating Current Intertie (PACI) Point-to-Point (PTP) transmission for Statutory Service such as firm electric, priority use power, and project use from WAPA-SN.

Character and Conditions of Service

Transmission service for three-phase, alternating current at 60-hertz, delivered and metered at the voltages and points of delivery or receipt, adjusted for losses, and delivered to points of delivery. This service includes scheduling and system control, and dispatch service needed to support the transmission service.

Formula Rate

The formula rate for PACI PTP transmission service includes three components.

Component 1

Where:

PACI Transmission Revenue Requirement = WAPA-SN's costs associated with facilities that support the transfer capability of the PACI.

WAPA-SN's PACI Capacity = WAPA-SN's share of PACI transmission capacity, subject to curtailment under the current California-Oregon Intertie (COI) transfer capability.

WAPA-SN will update the rate from Component 1 at least 15 days before the start of the rate period. Rate change notifications will be posted on WAPA-SN's Open Access Same-Time Information System (OASIS).

Component 2

Any charges or credits associated with the creation, termination, or modification to any tariff, contract, or rate schedule accepted or approved by FERC or other regulatory body will be passed on to each relevant customer. The charges or credits apply to the service to which this rate methodology applies. When possible, WAPA-SN will pass through charges or credits directly to the customer in the same manner WAPA-SN is charged or credited. When not possible, the charges or credits will be passed through using Component 1 of the formula rate.

Component 3

Any charges or credits from the Host Balancing Authority for providing this service will be passed on to each relevant customer. When possible, WAPA-SN will pass through charges and credits directly to the customer in the same manner WAPA-SN is charged or credited. When not possible, the charges or credits will be passed through using Component 1 of the formula rate.

Billing

The formula rate above applies to the maximum amount of capacity reserved for periods ranging from 1 hour to 1 month, payable whether used or not. Billing will occur monthly.

Adjustment for Losses

Losses incurred for service under this rate schedule will be accounted for as agreed to by the parties in accordance with the service agreement.

Audit Adjustments

Financial audit adjustments that apply to the formula rate under this rate schedule will be evaluated on a case-by-case basis to determine the appropriate treatment for repayment and cash flow management.

Rate Schedule PACI-D1

(Supersedes Schedule PACI DLAP-T6)

United States Department of Energy

Western Area Power Administration

Sierra Nevada Region

Pacific Alternating Current Intertie

Point-to-Point Transmission Service

Approved Under Rate Order No. WAPA-211

Effective

April 1, 2026, through March 31, 2031, or until superseded, whichever occurs earlier.

Available

In the area served by the Western Area Power Administration (WAPA), Sierra Nevada Customer Service Region (SN).

Applicable

To customers purchasing surplus Pacific Alternating Current Intertie (PACI) Point-to-Point (PTP) transmission for non-Statutory Service from WAPA-SN that is delivered from and/or received at the Pacific Gas and Electric Company Default Load Aggregation Point located within the California Independent System Operator (CAISO) balancing authority area (BAA).

Character and Conditions of Service

Transmission service for three-phase, alternating current at 60-hertz, delivered and metered at the voltages and points of delivery or receipt, adjusted for losses, and delivered to points of delivery. This service includes scheduling and system control, and dispatch service needed to support the transmission service.

Formula Rate

The equitable formula rate for PACI PTP transmission service includes three components.

Component 1

The formula rate will be based on WAPA-SN's cost for wheeling power through the CAISO BAA as of January 1st each year, or shortly thereafter, and will remain in effect for the rate period. Any changes to the wheeling cost including revisions or retroactive adjustments, will not be considered.

WAPA-SN will update the rate from Component 1 at least 15 days before the start of the rate period. Rate change notifications will be posted on WAPA-SN's Open Access Same-Time Information System (OASIS).

Component 2

Any charges or credits associated with the creation, termination, or modification to any tariff, contract, or rate schedule accepted or approved by FERC or other regulatory body will be passed on to each relevant customer. The charges or credits apply to the service to which this rate methodology applies. When possible, WAPA-SN will pass through charges or credits directly to the customer in the same manner WAPA-SN is charged or credited.

Component 3

Any charges or credits from the Host Balancing Authority for providing this service will be passed on to each relevant customer. When possible, WAPA-SN will pass through charges and credits directly to the customer in the same manner WAPA-SN is charged or credited.

Billing

The formula rate above applies to the maximum amount of capacity reserved for periods ranging from 1 hour to 1 month, payable whether used or not. Billing will occur monthly.

Adjustment for Losses

Losses incurred for service under this rate schedule will be accounted for as agreed to by the parties in accordance with the service agreement.

Audit Adjustments

Financial audit adjustments that apply to the formula rate under this rate schedule will be evaluated on a case-by-case basis to determine the appropriate treatment for repayment and cash flow management.

Rate Schedule PACI-W1

(Supersedes Schedule PACI-T5 REV)

United States Department of Energy

Western Area Power Administration

Sierra Nevada Region

Pacific Alternating Current Intertie

Point-to-Point Transmission Service

Approved Under Rate Order No. WAPA-211

Effective

April 1, 2026, through March 31, 2031, or until superseded, whichever occurs earlier.

Available

In the area served by the Western Area Power Administration (WAPA), Sierra Nevada Customer Service Region (SN).

Applicable

To customers purchasing surplus Pacific Alternating Current Intertie (PACI) Point-to-Point (PTP) transmission for non-Statutory Service from WAPA-SN that is delivered and/or received between Malin to Round Mountain and/or Malin to Cottonwood Substation located within the Balancing Authority Area of Northern California balancing authority area.

Character and Conditions of Service

Transmission service for three-phase, alternating current at 60-hertz, delivered and metered at the voltages and points of delivery or receipt, adjusted for losses, and delivered to points of delivery. This service includes scheduling and system control, and dispatch service needed to support the transmission service.

Formula Rate

The equitable formula rate for PACI PTP transmission service includes three components.

Component 1

WAPA-SN will update the rate from Component 1 at least 15 days before the start of the rate period. Rate change notifications will be posted on WAPA-SN's Open Access Same-Time Information System (OASIS).

Component 2

Any charges or credits associated with the creation, termination, or modification to any tariff, contract, or rate schedule accepted or approved by FERC or other regulatory body will be passed on to each relevant customer. The charges or credits apply to the service to which this rate methodology applies. When possible, WAPA-SN will pass through charges or credits directly to the customer in the same manner WAPA-SN is charged or credited. When not possible, the charges or credits will be passed through using Component 1 of the formula rate.

Component 3

Any charges or credits from the Host Balancing Authority for providing this service will be passed on to each relevant customer. When possible, WAPA-SN will pass through charges and credits directly to the customer in the same manner WAPA-SN is charged or credited. When not possible, the charges or credits will be passed through using Component 1 of the formula rate.

Billing

The formula rate above applies to the maximum amount of capacity reserved for periods ranging from 1 hour to 1 month, payable whether used or not. Billing will occur monthly.

Adjustment for Losses

Losses incurred for service under this rate schedule will be accounted for as agreed to by the parties in accordance with the service agreement.

Audit Adjustments

Financial audit adjustments that apply to the formula rate under this rate schedule will be evaluated on a case-by-case basis to determine the appropriate treatment for repayment and cash flow management.

[FR Doc. 2026-01329 Filed 1-23-26; 8:45 am]

BILLING CODE 6450-01-P